DEPARTMENT OF THE INTERIOR

Bureau of Land Management

[BLM_NV_FRN_MO4500169077]

Notice of Availability of the Final Environmental Impact Statement for Nevada Gold Mines LLC's Goldrush Mine Project, Lander and Eureka Counties, NV

AGENCY: Bureau of Land Management, Interior.

ACTION: Notice of availability.

SUMMARY: In accordance with the National Environmental Policy Act (NEPA) of 1969, as amended, and the Federal Land Policy and Management Act of 1976, as amended (FLPMA), the Bureau of Land Management (BLM) announces the availability of the Final Environmental Impact Statement (EIS) for the Nevada Gold Mines LLC (NGM) Goldrush Mine Project.

DATES: The BLM will not issue a decision on the proposal for a minimum of 30 days after the date that the Environmental Protection Agency (EPA) publishes its Notice of Availability (NOA) in the Federal Register.

ADDRESSES: The Final EIS and documents pertinent to this proposal are available for review on the BLM National NEPA Register website at https://eplanning.blm.gov/eplanning-ui/project/2012544/510.

FOR FURTHER INFORMATION CONTACT: Scott Distel, Project Manager, telephone: (775) 635-4093; email: sdistel@blm.gov; address: 50 Bastian Road, Battle Mountain, NV 89820. Individuals in the United States who are deaf, deafblind, hard of hearing, or have a speech disability may dial 7-1-1 (TTY, TDD, or TeleBraille) to access telecommunication relay services for contacting Mr. Distel. Individuals outside the United States should use the relay services offered within their country to make international calls to the point-of-contact in the United States.

SUPPLEMENTARY INFORMATION:

Purpose and Need for the Proposed Action

The BLM's purpose for the action is to respond to NGM's proposal, as described in its proposed plan of operations, and to analyze the potential environmental effects associated with the Proposed Action, which is the operator's proposed plan of operations, and alternatives to the Proposed Action. NEPA mandates that the BLM evaluate the potential effects of the Proposed Action and develop alternatives. The BLM's need for the action is established by the BLM's responsibilities under Section 302 of FLPMA and the BLM Surface Management Regulations at 43 CFR subpart 3809 to respond to a proposed plan of operations and ensure that operations prevent unnecessary or undue degradation of the public lands.

Proposed Action and Alternatives

Under the proposed plan of operations, NGM would construct and operate an underground mine project in the Cortez Mining Area of Lander and Eureka Counties, Nevada. The proposed Goldrush Mine Plan boundary encompasses 19,853 acres, of which 772 acres are private land controlled by NGM and 19,081 acres are public lands administered by the BLM Battle Mountain District, Mount Lewis Field Office (MLFO) and BLM Elko District, Tuscarora Field Office (TFO). Most of this area is within existing exploration and mine plans previously authorized by the BLM and includes facilities and surface disturbance associated with the authorized plans. To create the new Plan boundary, NGM proposes boundary modifications and/or reclassification of acres within the following existing NGM-owned exploration and mine Plan boundaries: Horse Canyon Mine Plan (N-66896) administered by MLFO; Horse Canyon/Cortez Unified Exploration Project (HC/CUEP) Plan (N-66621) administered by MLFO; West Pine Valley Exploration Project Plan (N-77213) administered by TFO; and use of existing infrastructure at the Cortez Mine (N-67575) administered by MLFO.

The proposed plan of operations would result in 1,694 acres of new surface disturbance on public lands administered by the BLM, including approximately 210 acres of exploration disturbance that could occur anywhere within the proposed Goldrush Mine Plan boundary. In addition, approximately 1,064 acres of existing authorized disturbance would be within the proposed footprint, and approximately 12 acres of existing authorized disturbance would be reclassified. The proposal includes a materials handling system for transporting ore and waste rock from the underground workings to the surface and transporting aggregate and supplies to the underground workings and surface backfill plant; a dewatering system; ventilation raises; a backfill aggregate paste plant and crusher; a shotcrete/cemented rock fill (CRF) plant; two new power lines with two switching stations; new ancillary surface facilities; and continued surface and underground exploration operations.

The Revised Proposed Action for Reduced Wildlife Impacts Alternative is the BLM's Preferred Alternative. The proposed Plan boundary under this alternative would consist of 19,871 acres, of which 772 acres would be on private land controlled by NGM and 19,099 of public lands administered by the BLM. The same reclassification of acres from existing authorizations would occur as described under the proposed plan of operations, except a total of 888 acres would be transferred from the West Pine Valley Exploration Plan (N-77213) to the Goldrush Mine Plan boundary. This alternative would create an additional 1,626 acres of new surface disturbance on public lands administered by the BLM, including approximately 210 acres of exploration disturbance. In addition, approximately 1,027 acres of existing authorized disturbance would be within the footprint of this alternative, and approximately five acres of existing authorized disturbance would be reclassified.

The proposed underground mining and surface support operations for the Goldrush Mine under the Revised Proposed Action for Reduced Wildlife Impacts Alternative would include the same features as described for proposed plan of operations, except the following would occur: the water treatment plant and multi-use shop would be eliminated; the surface paste plant in Horse Canyon, paste plant access road to Horse Canyon, and associated aggregate haulage would be eliminated; a secondary CRF plant would be constructed on the proposed portal pad expansion; the laydown yard would be relocated to be constructed adjacent to the West Pine Valley rapid infiltration basin; and the alignment of the 13.8-kV power line would be changed to relocate the poles below the crest of the canyon wall in Horse Canyon. The only changes to the underground mining operations would be increasing the diameter of the ventilation raises to 21 feet in diameter and eliminating the use of the aggregate paste fill as backfill.

Under the No Action Alternative, the development of the Goldrush Mine would not be authorized and NGM would not construct, operate, and close a new underground mine (i.e., the Goldrush Mine). Modifications or reclassification of acres would not occur, and the dual use of facilities between the Cortez Mine and Goldrush Mine would not occur. NGM would continue current authorized mining and exploration operations under the previously authorized plans.

Based on the analyses contained in the EIS for the proposed Goldrush Mine Project, and after carefully considering input received from the public and cooperating agencies, the BLM has selected the Revised Proposed Action for Reduced Wildlife Impacts Alternative as the BLM's preferred alternative.

Public comments on the Draft EIS received, and internal BLM review, were considered and incorporated as appropriate into the Final EIS. Public comments resulted in the addition of clarifying text but did not significantly change the impact analyses.

(Authority: 40 CFR 1506.6, 40 CFR 1506.10)

Douglas W. Furtado,
District Manager Battle Mountain District.

[FR Doc. 2023-24011 Filed 10-30-23; 8:45 am]

BILLING CODE 4331-21-P